FEDERAL COMMUNICATIONS COMMISSION

47 CFR Part 73

[DA 04-3010; MB Docket No. 04-367; RM-11070]

Radio Broadcasting Services; Genoa, CO; Security, CO

AGENCY: Federal Communications Commission.

ACTION: Proposed rule.

SUMMARY: This document requests comments on a petition for rulemaking filed by Optima Communications, Inc. requesting the substitution of Channel 288C2 for Channel 288C3 at Security, Colorado and the modification of Station KSKX(FM)'s license accordingly. The coordinates for Channel 288C2 at Security are 38-37-30 NL and 104-49-00 WL. There is a site restriction 16.12 kilometers (10 miles) southwest of the community. To accommodate the proposal, petitioner requests the substitution of Channel 291C3 for vacant Channel 288C3 at Genoa, Colorado. The coordinates for Channel 291C3 at Genoa are 39-15-35 NL and 103-17-15 WL with a site restriction 18.4 kilometers (11.4 miles) east of the community.

DATES: Comments must be filed on or before November 15, 2004, and reply comments on or before November 30, 2004.

ADDRESSES: Secretary, Federal Communications Commission, 445 Twelfth Street, SW., Washington, DC 20554. In addition to filing comments with the FCC, interested parties should serve the petitioner as follows: Optima Communications, Inc., c/o Mark N. Lipp, Esq., Vinson & Elkins, L.L.P., The Willard Office Building, 1455 Pennsylvania Avenue, NW., Washington, DC 20004-1008.

FOR FURTHER INFORMATION CONTACT: Helen McLean, Media Bureau, (202) 418-2738.

SUPPLEMENTARY INFORMATION: This is a synopsis of the Commission's Notice of Proposed Rule Making, MB Docket No. 367, adopted September 22, 2004, and released September 24, 2004. The full text of this Commission notice is available for inspection and copying during normal business hours in the FCC's Reference Information Center at Portals II, CY-A257, 445 Twelfth Street, SW., Washington, DC. This document may also be purchased from the Commission's duplicating contractors, Best Copy and Printing, Inc., 445 12th Street, SW., Room CY-B402, Washington, DC 20554, telephone 1-800-378-3160 or http://www.BCPIWEB.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by removing Channel 288C3 and by adding Channel 291C3 at Genoa; by removing Channel 288C3 and by adding Channel 288C2 at Security.

Federal Communications Commission.
John A. Karousos,
Assistant Chief, Audio Division, Media Bureau.

[FR Doc. 04-22880 Filed 10-8-04; 8:45 am]

BILLING CODE 6712-01-P